DEPARTMENT OF ENERGY

Federal Energy Regulatory Commission

[Project No. 12690-005]

Public Utility District No. 1 of Snohomish County, Washington; Notice of Availability of Final Environmental Assessment

In accordance with the National Environmental Policy Act of 1969 and the Federal Energy Regulatory Commission's (Commission or FERC's) regulations, 18 CFR Part 380 (Order No. 486, 52 FR 47897), the Office of Energy Projects reviewed the Public Utility District No. 1 of Snohomish County, Washington's (Snohomish PUD) application for a 10-year license for the proposed Admiralty Inlet Pilot Tidal Project No. 12690, which would be located in Admiralty Inlet in Puget Sound, near the City of Port Townsend, in Island County, Washington, and has prepared a final environmental assessment (FEA) in cooperation with the U.S. Department of Energy (DOE/EA-1949). In the FEA, Commission staff analyzed the potential environmental effects of constructing and operating the project and concludes that licensing the project, with appropriate environmental protective measures, would not constitute a major federal action that would significantly affect the quality of the human environment.

A copy of the FEA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659. A copy of the EA can also be found on DOE's Public Reading Room Web site at http://www.eere.energy.gov/golden/NEPA_FEA_FONSI.aspx. Please reference DOE/EA-1949 in the National Environmental Policy Act, Documents section.

You may also register online at www.ferc.gov/docs-filing/esubscription.asp to be notified via email of new filings and issuances related to this or other pending projects. For assistance, contact FERC Online Support.

For Further Information Contact: Stephen Bowler by telephone at 202-502-6861 or by email at stephen.bowler@ferc.gov.

Dated: August 9, 2013.
Kimberly D. Bose,
Secretary.

[FR Doc. 2013-19819 Filed 8-14-13; 8:45 am]

BILLING CODE 6717-01-P